DEPARTMENT OF THE INTERIOR

Bureau of Reclamation

[DES 04-33]

Water Transfer Program for the San Joaquin River Exchange Contractors Water Authority, 2005 to 2014

AGENCY: Bureau of Reclamation, Interior.

ACTION: Notice of availability of the draft environmental impact statement/environmental impact report (Draft EIS/EIR) and notice of public hearing.

SUMMARY: Pursuant to the National Environmental Policy Act (NEPA) and the California Environmental Quality Act (CEQA), the Bureau of Reclamation (Reclamation) and the San Joaquin River Exchange Contractors Water Authority (Exchange Contractors) have made available for public review and comment the Draft EIS/EIR for a 10-year water transfer program. The program would consist of the transfer of up to 130,000 acre-feet of substitute water (a maximum of 80,000 acre-feet of developed water from conservation measures, including tailwater recovery, and groundwater pumping and a maximum of 50,000 acre-feet from temporary land fallowing) from the Exchange Contractors to other Central Valley Project (CVP) contractors, to Reclamation for delivery to the San Joaquin Valley wetland habitat areas (wildlife refuges), and to Reclamation and/or DWR for use by the CALFED Environmental Water Account (EWA) as replacement water for CVP contractors. Reclamation would approve and/or execute short-term and/or long-term temporary water transfers or agreements.

DATES: A public hearing will be held to receive oral or written comments regarding the project's environmental effects on July 7, 2004 from 5 p.m. to 7 p.m. in Los Banos, California.

Submit written comments on the Draft EIS/EIR on or before August 2, 2004 at the address provided below.

ADDRESSES: The public hearing will be held at the Miller & Lux Building, 830 Sixth Street, Los Banos, CA 93635.

Written comments should be sent to Bureau of Reclamation, Mid-Pacific Region, Division of Environmental Affairs, Attention: Mr. Bob Eckart, 2800 Cottage Way, Sacramento, California 95825, Fax: (916) 978-5055.

Copies of the Draft EIS/EIR may be requested from Mr. Eckart at the above address or by calling (916) 978-5051. See Supplementary Information section for locations where copies of the Draft EIS/EIR are available for public inspection.

FOR FURTHER INFORMATION CONTACT: Mr. Bob Eckart at the above address, by calling (916) 978-5051, or by e-mail: reckart@mp.usbr.gov.

SUPPLEMENTARY INFORMATION: The purpose/objective of the proposed 10-year transfer program is the transfer of water from the Exchange Contractors to:

• South of Delta CVP contractors to meet demands of agriculture, municipal, and industrial uses,

• The Department of the Interior's Water Acquisition Program for delivery to the San Joaquin Valley Federal, State, and private wildlife refuges to meet Incremental Level 4 needs, and/or

• Reclamation and/or DWR for use by the CALFED EWA Program to benefit CVP operations by providing replacement water to CVP contractors.

The Exchange Contractors' proposed water transfer program would assist Reclamation in maximizing the use of limited existing water resources for agriculture, fish and wildlife resources, and municipal and industrial purposes. Water would be transferred to other CVP contractors to support the production of agricultural crops and livestock within the limits of their current agreements. CVP contractors include Santa Clara Valley Water District which is in need of short-term water supplies to support agriculture, municipal, and industrial uses in Santa Clara County. Reclamation's Water Acquisition Program needs additional water to provide the refuges with the increment between Level 2 and Level 4 water quantities for fish and wildlife habitat development. Reclamation and/or DWR may also need to acquire additional CVP water south of the Delta to replace water used for fish protection actions pursuant to CALFED's EWA Program (for the benefit of the CVP).

The water transfers would occur largely within the San Joaquin Valley of Central California. The Exchange Contractors service area covers parts of Fresno, Madera, Merced, and Stanislaus counties. The agricultural water users that would benefit from the potential transfers are located in the counties of Stanislaus, San Joaquin, Merced, Madera, Fresno, San Benito, Santa Clara, Tulare, Kings, and Kern. The wetland habitat areas that may receive the water are located in Merced, Fresno, Tulare, and Kern counties. Water purchased for use by Reclamation and/or DWR for the EWA may be provided to CVP contractors in the West San Joaquin and San Felipe divisions to replace water bypassed at Tracy Pumping Plant pursuant to EWA fish protection actions.

The Draft EIS/EIR addresses impacts associated with water development by the Exchange Contractors and related effects associated with water use by CVP contractors and the wildlife refuges. Resources evaluated for potential direct and indirect effects from the proposed transfer program include: surface water, groundwater, biological (vegetation, wildlife, and fisheries), air quality, land use (including agriculture), socioeconomics, Indian Trust Assets, and environmental justice. An evaluation of cumulative hydrologic and water service area impacts associated with reasonably foreseeable actions is included also.

Copies of the Draft EIS/EIR are available for public inspection and review at the following locations:

• Bureau of Reclamation, Office of Public Affairs, 2800 Cottage Way, Sacramento, CA 95825-1898; telephone: (916) 978-5100

• San Joaquin River Exchange Contractors Water Authority, 541 H Street, Los Banos, CA 93635; telephone: (209) 827-8616

• California State Library, 914 Capitol Mall, Suite E-29, Sacramento

• Resources Agency Library, 1416 Ninth Street, Suite 117, Sacramento

• San Francisco Public Library, McAllister and Larkin, San Francisco

• Fresno County Public Library, 2420 Mariposa Street, Fresno

• Merced County Public Library, 1312 South 7th Street, Los Banos

• Santa Clara County Public Library, 10441 Bandley Drive, Cupertino

• Kern County Library, 701 Truxton Avenue, Bakersfield

• UCD Shields Library, Documents Department, University of California, Davis

• UCB Water Resources Center Archives, 410 O'Brien Hall, Berkeley

Oral and written comments, including names and home addresses of respondents, will be made available for public review. Individual respondents may request that we withhold their home address from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be made available for public disclosure in their entirety.

Hearing Process Information:

The purpose of the public hearing is to provide the public with an opportunity to comment on environmental issues addressed in the Draft EIS/EIR. Written comments will also be accepted.

Dated: April 15, 2004.
Susan L. Ramos,
Assistant Regional Director, Mid-Pacific Region.

[FR Doc. 04-13546 Filed 6-15-04; 8:45 am]

BILLING CODE 4310-MN-P